DEPARTMENT OF JUSTICE

Antitrust Division

Notice Pursuant to the National Cooperative Research and Production Act of 1993—Gaming Standards Association (GSA)

Notice is hereby given that, on July 8, 2003, pursuant to Section 6(a) of the National Cooperative Research and Production Act of 1993, 15 U.S.C. 4301 et seq. (“the Act”), the Gaming Standards Association (“GSA”) has filed written notifications simultaneously with the Attorney General and the Federal Trade Commission disclosing changes in its membership status. The notifications were filed for the purpose of extending the Act's provisions limiting the recovery of antitrust plaintiffs to actual damages under specified circumstances. Specifically, Alliance Gaming Services, Amsterdam, HOLLAND; Australasian Gaming Machine Manufacturers Association (AGMMA), Crows Nest, New South Wales, AUSTRALIA; BMM North America, Las Vegas, NV; Cadillac Jack, Duluth, CA; Cirsa Interactive, Terrassa, SPAIN; Cyberview Technologies, Inc., Las Vegas, NV; GameTech International, Reno, NV; GGS-US LTD, Las Vegas, NV; Giesecke & Devrient, Dulles, VA; Glory USA, W. Caldwell, NJ; Isle of Capri Casinos, Inc., Biloxi, MS; MBDA, Miami, OK; OLGC, Toronto, Ontario, CANADA; and Soanar, Croydon, Victoria, AUSTRALIA have been added as parties to this venture. Also, IGT—International Game Technology, Reno, NV has been dropped as a party to this venture.

No other changes have been made in either the membership or planned activity of the group research project. Membership in this group research project remains open, and GSA intends to file additional written notification disclosing all changes in membership.

On March 6, 2003, GSA filed its original notification pursuant to section 6(a) of the Act. The Department of Justice published a notice in the Federal Register pursuant to section 6(b) of the Act on April 1, 2003 (68 FR 15743).

Constance K. Robinson,
Director of Operations, Antitrust Division.

[FR Doc. 03-19672 Filed 8-01-03; 8:45 am]

BILLING CODE 4410-11-M